COMMITTEE FOR PURCHASE FROM PEOPLE WHO ARE BLIND OR SEVERELY DISABLED

Procurement List; Dispute; Change

AGENCY: Committee for Purchase From People Who Are Blind or Severely Disabled.

ACTION: Notice of dispute and possible change.

SUMMARY: This action provides public notice of a dispute over a Procurement List product that is furnished by a nonprofit agency employing persons who are blind or have significant disabilities.

DATES: Comments must be received on or before: May 8, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Notice

If the Committee determines during the adjudication process that appropriate resolution to this dispute is an amendment to this Procurement List product, the Committee will publish a Final Notice in the Federal Register reflecting the change.

Regulatory Flexibility Act Certification

I certify that the following action will not have a significant impact on any small entities. The major factors considered for this certification were:

1. The action did not result in any additional reporting, recordkeeping, or other compliance requirements for small entities other than the nonprofit agencies furnishing the services to the Government.

2. The action did result in authorizing nonprofit agencies to furnish the products to the Government.

3. There were no known regulatory alternatives which would have accomplished the objectives of the Javits-Wagner-O'Day Act (41 U.S.C. 8501-8506) in connection with the products added to the Procurement List.

End of Certification

The following Procurement List product(s) have been referred to the Commission for dispute resolution.

Product(s)

ACU Patrol Cap, OCP 2015, NSN 8415-01-630-8905 (+13 additional sizes)

NPA: Southeastern Kentucky Rehabilitation Industries, Corbin, KY

Contracting Activity: Defense Logistics Agency (DLA)

The Committee for Purchase From People Who Are Blind or Severely Disabled (operating as the U.S. AbilityOne Commission) advises that on March 8, 2023, a dispute over the ACU Patrol Cap, OCP 2015 was remanded to the Commission by the U.S. Court of Federal Claims. After an initial review of relevant information, this dispute was referred to the Deciding Official for adjudication in accordance with the Javits-Wagner-O'Day Act (41 U.S.C. 8501-8506), the Commission's regulations at 41 CFR chapter 51, and Commission policies and procedures. Because adjudication could require an amendment to the Procurement List, this notice provides interested parties the opportunity to provide comments to the Commission about the dispute generally and serves as the Commission's public notice on potential Procurement List changes. The Commission requests all comments be sent no later than May 8, 2023, to Cassandra Assefa, Regulatory and Policy Attorney, Office of General Counsel, U.S. AbilityOne Commission; email: disputes@abilityone.gov.

Michael R. Jurkowski,
Acting Director, Business Operations.

[FR Doc. 2023-07340 Filed 4-6-23; 8:45 am]

BILLING CODE 6353-01-P